DEPARTMENT OF COMMERCE

National Oceanic and Atmospheric Administration

[RTID 0648-XC948]

North Pacific Fishery Management Council; Public Meeting

AGENCY: National Marine Fisheries Service (NMFS), National Oceanic and Atmospheric Administration (NOAA), Commerce.

ACTION: Notice of hybrid meeting.

SUMMARY: The North Pacific Fishery Management Council's (NPFMC) Ecosystem Committee will meet May 8, 2023.

DATES: The meeting will be held on Monday, May 8, 2023, from 8:30 a.m. to 4:30 p.m. Alaska Time.

ADDRESSES: The meeting will be a hybrid meeting. Attend in-person at the North Pacific Fishery Management Council office in Anchorage, Alaska or join online through the link at https://meetings.npfmc.org/Meeting/Details/2989.

Council address: North Pacific Fishery Management Council, 1007 W 3rd Ave., Anchorage, AK 99501-2252; telephone: (907) 271-2809. Instructions for attending the meeting are given under SUPPLEMENTARY INFORMATION, below.

FOR FURTHER INFORMATION CONTACT: Nicole Watson, Council staff; phone: (907) 271-2809 and email: nicole.watson@noaa.gov. For technical support, please contact administrative Council staff, email: npfmc.admin@noaa.gov.

SUPPLEMENTARY INFORMATION:

Agenda

Monday, May 8, 2023

The Ecosystem Committee agenda will include: (a) Programmatic EIS, (b) Public Comment, (c) Committee discussion and next steps, and (d) Scheduling and other items. The agenda is subject to change, and the latest version will be posted at https://meetings.npfmc.org/Meeting/Details/2989 prior to the meeting, along with meeting materials.

Connection Information

You can attend the meeting online using a computer, tablet, or smart phone; or by phone only. Connection information will be posted online at: https://meetings.npfmc.org/Meeting/Details/2989.

Public Comment

Public comment letters will be accepted and should be submitted electronically to https://meetings.npfmc.org/Meeting/Details/2989.

Authority: 16 U.S.C. 1801 et seq.

Dated: April 17, 2023.
Rey Israel Marquez,
Acting Deputy Director, Office of Sustainable Fisheries, National Marine Fisheries Service.

[FR Doc. 2023-08376 Filed 4-19-23; 8:45 am]

BILLING CODE 3510-22-P